FEDERAL COMMUNICATIONS COMMISSION

Public Information Collection Requirement Submitted to OMB for Review and Approval, Comments Requested

February 24, 2009.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 1, 2009. If you anticipate that you will be submitting comments, but find it difficult to do so within the period of time allowed by this notice, you should advise the contacts listed below as soon as possible.

ADDRESSES: Direct all PRA comments to Nicholas A. Fraser, Office of Management and Budget, via Internet at Nicholas_A._Fraser@omb.eop.gov or via fax at (202) 395-5167 and to Cathy Williams, Federal Communications Commission, Room 1-C823, 445 12th Street, SW., Washington, DC or via Internet at Cathy.Williams@fcc.gov or PRA@fcc.gov. To view a copy of this information collection request (ICR) submitted to OMB: (1) Go to the Web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number, if there is one) and then click on the ICR Reference Number to view detailed information about this ICR.”

FOR FURTHER INFORMATION CONTACT: For additional information or copies of the information collection(s), contact Cathy Williams at (202) 418-2918.

SUPPLEMENTARY INFORMATION: OMB Control Number: 3060-0027.

Title: Application for Construction Permit for a Commercial Broadcast Station.

Form Number: FCC Form 301.

Type of Review: Revision of a currently approved collection.

Respondents: Business or other for profit entities; Not-for-profit institutions; State, Local or Tribal Governments.

Number of Respondents/Responses: 4,453 respondents; 7,889.

Estimated Time per Response: 3-6 hours.

Frequency of Response: On occasion reporting requirement; Third party disclosure requirement.

Total Annual Burden: 19,291 hours.

Total Annual Costs: $54,441,352.

Nature of Response: Required to obtain or retain benefits. The statutory authority for this information collection is contained in 154(i), 303 and 308 of the Communications Act of 1934, as amended.

Nature and Extent of Confidentiality: There is no need for confidentiality with this information collection.

Privacy Act Impact Assessment: No impact(s).

Needs and Uses: On December 18, 2007, the Commission adopted a Report and Order and Third Further Notice of Proposed Rulemaking (the “Order”) in MB Docket Nos. 07-294; 06-121; 02-277; 04-228, MM Docket Nos. 01-235; 01-317; 00-244; FCC 07-217. The Order adopts rule changes designed to expand opportunities for participation in the broadcasting industry by new entrants and small businesses, including minority- and women-owned businesses. Consistent with actions taken by the Commission in the Order, the following changes are made to Form 301: The instructions to Form 301 have been revised to incorporate a definition of “eligible entity,” which will apply to the Commission's existing Equity Debt Plus (“EDP”) standard, one of the standards used to determine whether interests are attributable. Section II of the form includes a new question asking applicants to indicate whether the applicant is claiming “eligible entity” status. The instructions have been revised to assist applicants with completing the new question.

OMB Control Number: 3060-0031.

Title: Application for Consent to Assignment of Broadcast Station Construction Permit or License, FCC Form 314; Application for Consent to Transfer Control of Entity Holding Broadcast Station Construction Permit or License, FCC Form 315; Section 73.3580, Local Public Notice of Filing of Broadcast Applications.

Form Number: FCC Forms 314 and 315.

Type of Review: Revision of a currently approved collection.

Respondents: Business or other for profit entities; Not-for-profit institutions; State, Local or Tribal Governments.

Number of Respondents/Responses: 4,820 respondents; 12,520 responses.

Estimated Time per Response: 0,084-6 hours.

Frequency of Response: On occasion reporting requirement; Third party disclosure requirement.

Total Annual Burden: 17,933 hours.

Total Annual Costs: $36,066,450.

Nature of Response: Required to obtain or retain benefits. The statutory authority for this information collection is contained in 154(i), 303 and 308 of the Communications Act of 1934, as amended.

Nature and Extent of Confidentiality: There is no need for confidentiality with this information collection.

Privacy Act Impact Assessment: No impact(s).

Needs and Uses: On December 18, 2007, the Commission adopted a Report and Order and Third Further Notice of Proposed Rulemaking (the “Order”) in MB Docket Nos. 07-294; 06-121; 02-277; 04-228, MM Docket Nos. 01-235; 01-317; 00-244; FCC 07-217. The Order adopts rule changes designed to expand opportunities for participation in the broadcasting industry by new entrants and small businesses, including minority- and women-owned businesses. Consistent with actions taken by the Commission in the Order, the following changes are made to Forms 314 and 315: The instructions to Form 314 have been revised to incorporate a definition of “eligible entity,” which will apply to the Commission's existing Equity Debt Plus (“EDP”) standard, one of the standards used to determine whether interests are attributable. Section II of the form includes a new certification concerning compliance with the Commission's anti-discrimination rules. Section III of the form includes a new question asking applicants to indicate whether the applicant is claiming “eligible entity” status. Section III also contains a new question asking applicants to indicate whether the proposed transaction involves the assignment of a radio station license that is part of a non-compliant, grandfathered cluster of radio licenses, and whether any licenses will be divested within 12 months of consummation of the transaction and assigned to an eligible entity. The instructions for Sections II and III have been revised to assist applicants with completing the new questions.

The instructions to Form 315 have been revised to incorporate a definition of “eligible entity,” which will apply to the Commission's existing Equity Debt Plus (“EDP”) standard, one of the standards used to determine whether interests are attributable. Section II of the form includes a new certification concerning compliance with the Commission's anti-discrimination rules. Section IV of the form includes a new question asking applicants to indicate whether the applicant is claiming “eligible entity” status. Section IV also contains a new question asking applicants to indicate whether the proposed transaction involves the assignment of a radio station license that is part of a non-compliant, grandfathered cluster of radio licenses, and whether any licenses will be divested within 12 months of consummation of the transaction and assigned to an eligible entity. The instructions for Sections II and IV have been revised to assist applicants with completing the new questions.

OMB Control Number: 3060-0075.

Title: Application for Transfer of Control of a Corporate Licensee or Permittee, or Assignment of License or Permit for an FM or TV Translator Station, or a Low Power Television Station—FCC Form 345.

Form Number: FCC Form 345.

Type of Review: Revision of a currently approved collection.

Respondents: Business or other for profit entities; Not-for-profit institutions; State, Local or Tribal Governments.

Number of Respondents/Responses: 1,000 respondents; 2,000 responses.

Estimated Time per Response: 5 minutes to 1.25 hours.

Frequency of Response: On occasion reporting requirement; Third party disclosure requirement.

Total Annual Burden: 1,792 hours.

Total Annual Costs: $1,598,625.

Nature of Response: Required to obtain or retain benefits. The statutory authority for this information collection is contained in 154(i) and 310 of the Communications Act of 1934, as amended.

Nature and Extent of Confidentiality: There is no need for confidentiality with this information collection.

Privacy Act Impact Assessment: No impact(s).

Needs and Uses: On December 18, 2007, the Commission adopted a Report and Order and Third Further Notice of Proposed Rulemaking (the “Order”) in MB Docket Nos. 07-294; 06-121; 02-277; 04-228, MM Docket Nos. 01-235; 01-317; 00-244; FCC 07-217. Consistent with actions taken by the Commission in the Order, the following changes are made to Form 345: Section II of Form 345 includes a new certification concerning compliance with the Commission's anti-discrimination rules and the instructions for Section II have been revised to assist applicants with completing the new question. The instructions in Section III have also been revised to incorporate a definition of “eligible entity,” which will apply to the Commission's existing Equity Debt Plus (“EDP”) standard, one of the standards used to determine whether interests are attributable.

Marlene H. Dortch,
Secretary, Federal Communications Commission.

[FR Doc. E9-4335 Filed 2-27-09; 8:45 am]

BILLING CODE 6712-01-P